DEPARTMENT OF STATE

[Public Notice 4147]

Culturally Significant Objects Imported for Exhibition; Determinations: “The Medici, Michelangelo, and the Art of Late Renaissance in Florence”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “The Medici, Michelangelo, and the Art of Late Renaissance in Florence,” imported from abroad for temporary exhibition within the United States, are of cultural significance. The objects are imported pursuant to loan agreements with the foreign owners. I also determine that the exhibition or display of some or all of the exhibit objects at The Art Institute of Chicago, Chicago, IL from on or about November 9, 2002 to on or about February 2, 2003, and The Detroit Institute of Arts, Detroit, MI from on or about March 15, 2003 to on or about June 8, 2003, and at possible additional venues yet to be determined, is in the national interest. Public Notice of these Determinations is ordered to be published in the Federal Register.

FOR FURTHER INFORMATION CONTACT: For further information, including a list of the exhibit objects, contact Julianne Simpson, Attorney-Adviser, Office of the Legal Adviser, U.S. Department of State, (telephone: 202/619-6529). The address is U.S. Department of State, SA-44, 301 4th Street, SW., Room 700, Washington, DC 20547-0001.

Dated: October 2, 2002.
Miller Crouch,
Acting Assistant Secretary for Educational and Cultural Affairs, Department of State.

[FR Doc. 02-25615 Filed 10-7-02; 8:45 am]

BILLING CODE 4710-08-P